FEDERAL COMMUNICATIONS COMMISSION

[FCC 01-111]

DTV Construction Deadline Extended for Twenty-Three Television Stations

AGENCY: Federal Communications Commission.

ACTION: Extension to comply with deadline.

SUMMARY: In this document, the FCC extends the digital television (DTV) construction deadline for twenty-three television stations to either July 5, 2001, or October 5, 2001.

DATES: DTV construction must be completed by either July 5, 2001, or October 5, 2001, depending on the television station.

FOR FURTHER INFORMATION CONTACT: Shaun Maher, Video Services Division, Mass Media Bureau at (202) 418-1600.

SUPPLEMENTARY INFORMATION: This is a summary of an Order released April 5, 2001. In the Order, the Commission permits television stations additional time to complete construction of their DTV facilities. Pursuant to § 73.624 of the rules, as published at 64 FR 4327 (January 28, 1999), the stations were required under the Commission rules to have completed construction of their DTV facilities by either May 1, 1999, or November 1, 1999. The Order grants extensions of the DTV construction deadline depending on the particular facts and circumstances for each station. This summary does not include the attachment that was included with the Order which sets forth the specific construction deadline for each of the twenty-three television stations.

The complete text of the Order, including attachment, is available for public inspection and copying during normal business hours in the FCC Reference Center (Room CY-A257), 445 12th Street, SW, Washington, DC. It may also be purchased from the Commission's copy contractor, International Transcription Services, Inc. (ITS, Inc.) 1231 20th Street, NW, Washington, DC 20035, (202) 857-3800. It is also available on the Commission's web site at http://www.fcc.gov.

Federal Communications Commission.
Magalie Roman Salas,
Secretary.

[FR Doc. 01-11243 Filed 5-3-01; 8:45 am]

BILLING CODE 6712-01-U